FEDERAL COMMUNICATIONS COMMISSION

47 CFR Parts 36, 42, 54, 63, and 64

[WC Docket No. 15-33; FCC 15-13]

Modernizing Common Carrier Rules

AGENCY: Federal Communications Commission.

ACTION: Notice of proposed rulemaking.

SUMMARY: In this document, the Federal Communications Commission (Commission) initiates a rulemaking that seeks to update the Commission's rules to better reflect current requirements and technology by removing outmoded regulations from the CFR. The Commission proposes to update the CFR by eliminating certain rules from which the Commission has forborn and eliminating references to telegraph service in certain rules. The Commission would clarify regulatory requirements, and modernize our rules to better reflect the state of the current telecommunications market.

DATES: Submit comments on or before June 5, 2015. Submit reply comments on or before June 22, 2015.

ADDRESSES: You may submit comments, identified by WC Docket No. 15-33 by any of the following methods:

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Alexis Johns, Wireline Competition Bureau, Competition Policy Division, (202) 418-1580, or send an email to alexis.johns@fcc.gov.

SUPPLEMENTARY INFORMATION: This is a summary of the Commission's Notice of Proposed Rulemaking in WC Docket No. 15-33, adopted February 2, 2015 and released February 6, 2015. The full text of this document is available for public inspection during regular business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

I. Introduction

1. This Notice of Proposed Rulemaking (NPRM) seeks to update our rules to better reflect current requirements and technology by removing outmoded regulations from the Code of Federal Regulations (CFR). The NPRM proposes to update the CFR by (1) eliminating certain rules from which the Commission has forborn, and (2) eliminating references to telegraph service in certain rules.

2. The NPRM follows two orders adopted in 2013 that granted forbearance from 126 legacy wireline regulations, and the Process Reform Report, a Commission staff report that suggested eliminating or streamlining wireline rules that are unnecessary as a result of marketplace or technology changes. In this NPRM, we propose to address Recommendations 5.37 and 5.38 of the Process Reform Report.

3. We propose to eliminate several rules from which the Commission has granted unconditional forbearance for all carriers. These are: (1) Section 64.804(c)-(g), which governs a carrier's recordkeeping and other obligations when it extends to federal candidates unsecured credit for communications service; (2) sections 42.4, 42.5, and 42.7, which require carriers to preserve certain records; (3) section 64.301, which requires carriers to provide communications service to foreign governments for international communications; (4) section 64.501, governing telephone companies' obligations when recording telephone conversations; (5) section 64.5001(a)-(c)(2), and (c)(4), which imposes certain reporting and certification requirements for prepaid calling card providers; and (6) section 64.1, governing traffic damage claims for carriers engaged in radio-telegraph, wire-telegraph, or ocean-cable service.

4. We also propose to remove references to “telegraph” from certain sections of the Commission's rules. This proposal is consistent with Recommendation 5.38 of the Process Reform Report. Specifically, we propose to remove “telegraph” from: (1) Section 36.126 (separations); (2) section 54.706(a)(13) (universal service contributions); and (3) sections 63.60(c), 63.61, 63.62, 63.65(a)(4), 63.500(g), 63.501(g), and 63.504(k) (discontinuance).

5. We seek comment on these proposed modifications. And for each of the rules addressed in this NPRM, we seek comment on whether there are other steps the Commission should or must take, along with elimination of the rule or the term “telegraph” from the CFR, in order to ensure that any telegraph service provider is not subject to unnecessary regulatory obligations. With this NPRM, we would clarify regulatory requirements, and modernize our rules to better reflect the state of the current telecommunications market.

II. Discussion

A. Deleting Rules From Which the Commission Granted Forbearance in the USTelecom Orders

6. In 2012, USTelecom requested forbearance from an array of legacy regulations. In 2013, the Commission granted forbearance from many, but not all, of those rules. The rationale for those decisions is set forth in the USTelecom Orders, and we are not seeking to reopen the decisions therein. In many instances, the Commission granted unconditional forbearance from a requirement, but the forbearance orders did not alter the text of the codified rule or remove the rule from the CFR. Thus, the rules appear in the CFR even though the Commission has stated that it will forbear from applying such rules. Absent additional research, a carrier or a consumer might believe the regulations to be in force. We thus believe that deleting from the CFR the rules identified below, for which the Commission granted unconditional forbearance, will clarify carriers' regulatory obligations and make the CFR more accurately reflect the Commission's intended approach as to those rules. We therefore propose to eliminate from the CFR the rules listed below from which the Commission forbore in the USTelecom Orders.

7. Sections 42.4, 42.5, and 42.7. Section 42.4 requires each carrier to maintain at its operating company headquarters a physical copy of its master index of records. Section 42.5 governs the preparation and preservation of the original records. Section 42.7 governs how long a carrier must retain the master index of records and when records must be added.

8. Section 64.1. This section covers traffic damage claims for carriers engaged in radio-telegraph, wire-telegraph, or ocean-cable service.

9. Section 64.301. This section requires that common carriers furnish communications services to a foreign government “upon reasonable demand” and deny communications services to a foreign government, upon order of the Commission, when such government “fails or refuses” to provide communications services to the U.S. government.

10. Section 64.501. Section 64.501 is the present-day iteration of rules first promulgated in 1947 governing telephone companies' obligations when recording telephone conversations and precludes a telephone company from recording any telephone conversation with members of the public unless the recording is preceded by “verbal or written consent of all parties to the telephone conversation,” “preceded by verbal notification,” or “accompanied by an automatic tone warning device.” In the USTelecom Forbearance Long Order, the Commission concluded that unconditional forbearance for all carriers was warranted stating that “since we initiated the rule more than 60 years ago, the Federal Wiretap Act, as well as State laws, have addressed the same issue in a more comprehensive fashion.”

11. Sections 64.804(c)-(g). These provisions require carriers to (1) obtain a signed application from the candidate for Federal office or a person on behalf of such candidate before extending credit; (2) serve written notice to the candidate for non-payment; (3) take appropriate action at law to collect any unpaid balance; (4) maintain certain associated records; and (5) carriers with revenues in excess of $1 million must file an annual report with the Commission.

12. Sections 64.5001(a)-(c)(2), and (c)(4). Section 64.5001 establishes reporting and certification requirements for prepaid calling card providers. Sections 64.5001(a) and (b) require prepaid calling card providers to report to their transport providers specific information, including percentage of interstate usage (PIU) factors and call volumes for which these factors were calculated. Section 64.5001(c) requires the prepaid calling card provider to submit a quarterly certification statement signed by an officer of the company to the Commission with the following information: (1) The percentage of intrastate, interstate, and international calling card minutes for the reporting period; (2) the percentage of total prepaid calling card revenue attributable to interstate and international calls for the reporting period; (3) it is making the required Universal Service Fund contribution based on the reported information; and (4) has complied with the reporting requirements in 64.5001(a). We do not propose to delete section 64.5001(c)(3) because the Commission did not grant unconditional forbearance. Rather, it granted forbearance “only to those prepaid calling card providers that have a two-year track record of timely filing required annual and quarterly Telecommunications Reporting Worksheets (FCC Forms 499-A and 499-Q) [and] [o]nce a prepaid calling card provider has established that track record, it need not comply further with section 64.5001(c)(3).”

B. Deleting Other Rules Relating to Telegraph Service

13. In the Process Reform Report, Commission staff suggested deleting references to telegraph service from several wireline rules. The Process Reform Report recommended that the Wireline Competition Bureau delete section 64.1 and delete the word “telegraph” from the Commission's separations, universal service contributions, and discontinuance rules. We agree that the references to telegraph appear out of date, and propose to delete the word “telegraph” from the rules, as proposed in the Appendix, below. We seek comment on this proposal.

14. In light of the evolution of technology away from the use of telegraphs, we believe that the references to telegraph service in the following rules are no longer necessary, and should be deleted. Continuing to include telegraph service in these rules appears unnecessary, and potentially confusing. We seek comment on whether there are any providers offering telegraph service today at all, and if so, whether such service offerings warrant retaining the term “telegraph” in the rules identified below. Would there be any practical impact if the Commission were to delete “telegraph” from these rules?

15. Section 36.126 of the Separations Rules. Jurisdictional separations is the process by which incumbent local exchange carriers (LECs) apportion regulated costs between intrastate and interstate jurisdictions. Incumbent LECs assign regulated costs to various categories of plant and expenses, and the costs in each category are apportioned between the intrastate and interstate jurisdictions. As part of this process, section 36.126 identifies equipment that is considered “Circuit equipment—Category 4.” Section 36.126 lists “telegraph,” “telegraph system terminals,” “telegraph carrier terminals,” “telegraph private line services,” and “telegraph repeaters” as examples of such equipment. We propose to delete these terms throughout section 36.126. Would deletion have any practical impact? As noted in the Process Reform Report, we anticipate sharing this NPRM with the Federal-State Joint Board on Separations. We note that there is a pending referral to the Federal-State Joint Board on separations that welcomed input on “whether, how, and when the Commission's jurisdictional separations rules should be modified.” Thus, we need not specifically refer this discrete matter.

16. Section 54.706(a)(13) of the Universal Service Rules. Section 54.706(a) requires providers of interstate telecommunications services to contribute to the universal service fund if they provide more than a de minimis amount of such service, and paragraph (a)(13) lists telegraph as an illustrative example of interstate telecommunications. We propose to delete the term “telegraph” from section 54.706(a)(13), and seek comment on this proposal. No entities filing FCC Form 499 indicate that they are providing telegraph service, and we are not aware of any interstate telegraph providers today. De minimis providers are required to register and file FCC Form 499 even if they do not contribute. If telegraph providers with more than a de minimis amount of service existed, they still would be required to contribute to the universal service fund, but this proposed rule change would update the rule to be in line with today's marketplace.

17. Portions of Part 63 of the Discontinuance, Reduction, Outage and Impairment Rules. Section 214(a) of the Communications Act of 1934, as amended states in part that “[n]o carrier shall discontinue, reduce, or impair service to a community, or part of a community, unless and until there shall first have been obtained from the Commission a certificate that neither the present nor future public convenience and necessity will be adversely affected thereby.” Today, carriers providing telegraph service must comply with the Commission's Part 63 rules, which were adopted pursuant to section 214(a). We propose to delete references to “telegraph” as proposed in the Appendix below. To the extent that any entities are still providing telegraph service, we intend to exempt telegraph service from all exit regulation by exercising our forbearance authority and we seek comment on whether we should do so. We seek comment on this proposal.

III. Procedural Matters

A. Ex Parte Rules

18. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

B. Comment Filing Procedures

19. Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the Internet by accessing the ECFS: http://fjallfoss.fcc.gov/ecfs2/.

Paper Filers: Parties who choose to file by paper must file an original and one copy of each filing. Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington, DC 20554.

C. Accessible Formats

20. To request materials in accessible formats for people with disabilities (braille, large print, electronic files, audio format), send an email to fcc504@fcc.gov or call the Consumer & Governmental Affairs Bureau at 202-418-0530 (voice), 202-418-0432 (tty).

D. Initial Regulatory Flexibility Certification

21. The Regulatory Flexibility Act of 1980, as amended (RFA), requires that agencies prepare a regulatory flexibility analysis for notice-and-comment rulemaking proceedings, unless the agency certifies that “the rule will not have a significant economic impact on a substantial number of small entities.” The RFA generally defines “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

22. In the NPRM, the Commission seeks to update the CFR by (1) eliminating certain rules from which the Commission has forborn, and (2) eliminating references to telegraph service in certain rules. Specifically, the Commission proposes to eliminate several rules from which the Commission has granted unconditional forbearance for all carriers. These are: (1) Sections 64.804(c)-(g), which govern a carrier's recordkeeping and other obligations when it extends to federal candidates unsecured credit for communications service; (2) sections 42.4, 42.5, and 42.7, which require carriers to preserve certain records; (3) section 64.301, which requires carriers to provide communications service to foreign governments for international communications; (4) section 64.501 governing telephone companies' obligations when recording telephone conversations; (5) sections 64.5001(a)-(c)(2), and (c)(4), which impose certain reporting and certification requirements for prepaid calling card providers; and (6) section 64.1 governing traffic damage claims for carriers engaged in radio-telegraph, wire-telegraph, or ocean-cable service. The NPRM also seeks to remove references to “telegraph” from certain sections of the Commission's rules, consistent with Recommendation 5.38 of the Process Reform Report. Specifically, we propose to remove “telegraph” from (1) section 36.126 (separations); (2) section 54.706(a)(13) (universal service contributions); and (3) sections 63.60(c), 63.61, 63.62, 63.65(a)(4), 63.500(g), 63.501(g), and 63.504(k) (discontinuance).

23. The rule changes proposed in the NPRM, if adopted by the Commission, would remove requirements governing reporting, recordkeeping, and other compliance obligations. All providers, including those deemed to be small entities under the SBA's standard will have reduced costs and burdens and would benefit by being relieved from compliance with these rules. Carriers are no longer required to comply with rules from which the Commission granted unconditional forbearance. Therefore, removing these rules is not likely to have any economic impact on carriers. While the NPRM also seeks to remove “telegraph” from several rule provisions not currently subject to forbearance, the number of telegraph service providers today is likely very small. As such, we do not believe the proposals in the NPRM would impact a substantial number of small entities.

24. The Commission therefore certifies, pursuant to the RFA, that the proposals in this NPRM, if adopted, will not have a significant economic impact on a substantial number of small entities. If commenters believe that the proposals discussed in this NPRM require additional RFA analysis, they should include a discussion of these issues in their comments and additionally label them as RFA comments. The Commission will send a copy of this NPRM, including a copy of this initial regulatory flexibility certification, to the Chief Counsel for Advocacy of the SBA. In addition, a copy of this Notice of Proposed Rulemaking and this initial certification will be published in the Federal Register.

E. Initial Paperwork Reduction Act of 1995 Analysis

25. This document contains proposed modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

F. Contact Person

26. For further information about this proceeding, please contact Alex Johns, FCC Wireline Competition Bureau, Competition Policy Division, Room 5-C317, 445 12th Street SW., Washington, DC 20554, (202) 418-1580, alexis.johns@fcc.gov.

IV. Ordering Clauses

27. Accordingly, it is ordered, pursuant to sections 1, 2(a), 4(i), 4(j), 5, 10-11, 201-205, 214, 218-221, 225-228, 254, 303, 308, 403, 410, and 651 of the Communications Act of 1934, as amended, and section 706 of the Telecommunications Act of 1996, as amended, 47 U.S.C. §§ 151, 152(a), 154(i), 154(j), 155, 160-161, 201-205, 214, 218-221, 225-228, 254, 303, 308, 403, 410, 571, 1302, and section 401 of the Federal Election Campaign Act of 1971, as amended, 52 U.S.C. 30141, that this Notice of Proposed Rulemaking is adopted.

28. It is further ordered that the Commission's Consumer and Governmental Affairs Bureau, Reference Information Center, SHALL SEND a copy of this Notice of Proposed Rulemaking, including the Initial Regulatory Flexibility Certification, to the Chief Counsel for Advocacy of the Small Business Administration.

List of Subjects

47 CFR Part 36

Communications common carriers, Reporting and recordkeeping requirements, Telephone, Uniform System of Accounts.

47 CFR Part 42

Communications common carriers, Radio, Reporting and recordkeeping requirements, Telegraph, Telephone.

47 CFR Part 54

Communications common carriers, Health facilities, Infants and children, Libraries, Reporting and recordkeeping requirements, Schools, Telecommunications, Telephone.

47 CFR Part 63

Cable television, Communications common carriers, Radio, Reporting and recordkeeping requirements, Telegraph, Telephone.

47 CFR Part 64

Civil defense, Claims, Communications common carriers, Computer technology, Credit, Foreign relations, Individuals with disabilities, Political candidates, Radio, Reporting and recordkeeping requirements, Telecommunications, Telegraph, Telephone.

Federal Communications Commission.
Marlene H. Dortch,
Secretary.

Proposed Rule

For the reasons discussed in the preamble, the Federal Communications Commission amends 47 CFR parts 36, 42, 54, 63, and 64 to read as follows:

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

1. The authority citation for part 36 continues to read as follows:

Authority: 47 U.S.C. 151, 154(i) and (j), 205, 221(c), 254, 303(r), 403, 410, and 1302 unless otherwise noted.

2. Amend § 36.126 by revising paragraphs (a)(1), (2), and (8), adding paragraph (b)(4), and revising paragraphs (d)(1), (e)(1), and (e)(3)(iii) to read as follows:

§ 36.126 Circuit equipment—Category 4.

(a) * * *

(1) Carrier telephone system terminals.

(2) Telephone repeaters, termination sets, impedance compensators, pulse link repeaters, echo suppressors and other intermediate transmission amplification and balancing equipment except that included in switchboards.

* * * * *

(8) Testboards, test desks, repair desks and patch bays, including those provided for test and control, and for transmission testing.

(b) * * *

(4) In addition, for the purpose of identifying and separating property associated with special services, circuit equipment included in Categories 4.12 (other than wideband equipment) 4.13 and 4.23 is identified as either basic circuit equipment, i.e., equipment that performs functions necessary to provide and operate channels suitable for voice transmission (telephone grade channels), or special circuit equipment, i.e., equipment that is peculiar to special service circuits. Carrier telephone terminals and carrier telephone repeaters are examples of basic circuit equipment in general use, while audio program transmission amplifiers, bridges, monitoring devices and volume indicators are examples of special circuit equipment in general use.

* * * * *

(d) * * *

(1) Interexchange Circuit Equipment Furnished to Another Company for Interstate Use—Category 4.21—This category comprises that circuit equipment provided for the use of another company as an integral part of its interexchange circuit facilities used wholly for interstate services. This category includes such circuit equipment as telephone carrier terminals and microwave systems used wholly for interstate services. The total cost of the circuit equipment in this category for the study area is assigned to the interstate operation

(e) * * *

(1) Interexchange Circuit Equipment Furnished to Another Company for Interstate Use—Category 4.21—This category comprises that circuit equipment provided for the use of another company as an integral part of its interexchange circuit facilities used wholly for interstate services. This category includes such circuit equipment as telephone carrier terminals and microwave systems used wholly for interstate services. The total cost of the circuit equipment in this category for the study area is assigned to the interstate operation.

* * * * *

(3) * * *

(iii) The cost of special circuit equipment is segregated among private line services based on an analysis of the use of the equipment and in accordance with § 36.126(b)(4). The special circuit equipment cost assigned to private line services is directly assigned to the appropriate operations.

* * * * *

PART 42—PRESERVATION OF RECORDS OF COMMUNICATION COMMON CARRIERS

3. The authority citation for part 42 continues to read as follows:

Authority: Sec. 4(i), 48 Stat. 1066, as amended, 47 U.S.C. 154(i). Interprets or applies secs. 219 and 220, 48 Stat. 1077-78, 47 U.S.C. 219, 220.

§ 42.4 [Removed]

4. Remove § 42.4.

§ 42.5 [Removed]

5. Remove § 42.5.

§ 42.7 [Removed]

6. Remove § 42.7.

PART 54—UNIVERSAL SERVICE

7. The authority citation for part 54 continues to read as follows:

Authority: 47 U.S.C. 151, 154(i), 155, 201, 205, 214, 219, 220, 254, 303(r), 403, and 1302 unless otherwise noted.

§ 54.706 [Amended]

8. In § 54.706, remove and reserve paragraph (a)(13).

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

9. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

10. Amend § 63.60 by revising paragraph (c) to read as follows:

§ 63.60 Definitions.

* * * * *

(c) Emergency discontinuance, reduction, or impairment of service means any discontinuance, reduction, or impairment of the service of a carrier occasioned by conditions beyond the control of such carrier where the original service is not restored or comparable service is not established within a reasonable time. For the purpose of this part, a reasonable time shall be deemed to be a period not in excess of the following: 10 days in the case of public coast stations; and 60 days in all other cases;

* * * * *

11. Amend § 63.61 by revising the introductory text to read as follows:

§ 63.61 Applicability.

Any carrier subject to the provisions of section 214 of the Communications Act of 1934, as amended, proposing to discontinue, reduce or impair interstate or foreign telephone service to a community, or a part of a community, shall request authority therefor by formal application or informal request as specified in the pertinent sections of this part:

* * * * *

12. Amend § 63.62 by revising the section heading to read as follows:

§ 63.62 Type of discontinuance, reduction, or impairment of telephone service requiring formal application.

* * * * *

§ 63.65 [Amended]

13. In § 63.65, remove and reserve paragraph (a)(4).

14. Amend § 63.500 by revising paragraph (g) to read as follows:

§ 63.500 Contents of applications to dismantle or remove a trunk line.

* * * * *

(g) Name of any other carrier or carriers providing telephone service to the community;

* * * * *

15. Amend § 63.501 by revising paragraph (g) to read as follows:

§ 63.501 Contents of applications to sever physical connection or to terminate or suspend interchange of traffic with another carrier.

* * * * *

(g) Name of any other carrier or carriers providing telephone service to the community;

* * * * *

16. Amend § 63.504 by revising paragraph (k) to read as follows:

§ 63.504 Contents of applications to close a public toll station where no other such toll station of the applicant in the community will continue service and where telephone toll service is not otherwise available to the public through a telephone exchange connected with the toll lines of a carrier.

* * * * *

(k) Description of the service involved, including a statement of the number of toll telephone messages sent-paid and received-collect, and the revenues from such traffic, in connection with the service proposed to be discontinued for each of the past 6 months; and, if the volume of such traffic handled in the area has decreased during recent years, the reasons therefor.

PART 64—MISCELLANEOUS RULES RELATING TO COMMON CARRIERS

17. The authority citation for part 64 continues to read as follows:

Authority: 47 U.S.C. 154, 254(k); 403(b)(2)(B), (c), Pub. L. 104-104, 110 Stat. 56. Interpret or apply 47 U.S.C. 201, 218, 222, 225, 226, 227, 228, 254(k), 616, 620, and the Middle Class Tax Relief and Job Creation Act of 2012, Pub. L. 112-96, unless otherwise noted.

Subpart A—[Removed and Reserved]

18. Remove and reserve subpart A, consisting of § 64.1.

Subpart C—[Removed and Reserved]

19. Remove and reserve subpart C, consisting of § 64.301.

Subpart E—[Removed and Reserved]

20. Remove and reserve subpart E, consisting of § 64.501.

§ 64.804 [Amended]

21. In § 64.804, remove and reserve paragraphs (c) through (g).

22. Revise § 64.5001 to read as follows:

§ 64.5001 Reporting and certification requirements.

On a quarterly basis, every prepaid calling card provider must submit to the Commission a certification, signed by an officer of the company under penalty of perjury, stating that it is making the required Universal Service Fund contribution based on the reported information. This provision shall not apply to any prepaid calling card provider that has timely filed every FCC Form 499-A and 499-Q due during the preceding two-year period.

[FR Doc. 2015-10470 Filed 5-5-15; 8:45 am]

BILLING CODE 6712-01-P